SECURITIES AND EXCHANGE COMMISSION

[File No. 500-1]

PGI Energy, Inc.; Order of Suspension of Trading

February 23, 2012.

It appears to the Securities and Exchange Commission that there is a lack of current and accurate information concerning the securities of PGI Energy, Inc. f/k/a Tensas, Inc. (“PGI Energy”) because of questions regarding the accuracy and adequacy of representations by PGI Energy in press releases and other public statements concerning the company's business activities and contracts, and the nature and timing of a dividend the company announced to shareholders. PGI Energy is quoted on OTC Link operated by OTC Markets Group, Inc. under the ticker symbol “PGIE.”

The Commission is of the opinion that the public interest and the protection of investors require a suspension of trading in the securities of the above-listed company.

Therefore, it is ordered, pursuant to Section 12(k) of the Securities Exchange Act of 1934, that trading in the securities of the above-listed company is suspended for the period from 9:30 a.m. EST, on February 23, 2012 through 11:59 p.m. EST, on March 7, 2012.

By the Commission.
Elizabeth M. Murphy,
Secretary.

[FR Doc. 2012-4618 Filed 2-23-12; 11:15 am]

BILLING CODE 8011-01-P